FEDERAL HOUSING FINANCE BOARD

[No. 2001-N-1]

Federal Home Loan Bank Members Selected for Community Support Review

AGENCY: Federal Housing Finance Board.

ACTION: Notice.

SUMMARY: The Federal Housing Finance Board (Finance Board) is announcing the Federal Home Loan Bank (Bank) members it has selected for the 2000-01 fourth quarter review cycle under the Finance Board's community support requirement regulation. This notice also prescribes the deadline by which Bank members selected for review must submit Community Support Statements to the Finance Board.

DATES: Bank members selected for the 2000-01 fourth quarter review cycle under the Finance Board's community support requirement regulation must submit completed Community Support Statements to the Finance Board on or before March 2, 2001.

ADDRESSES: Bank members selected for the 2000-01 fourth quarter review cycle under the Finance Board's community support requirement regulation must submit completed Community Support Statements to the Finance Board either by regular mail at the Office of Policy, Research and Analysis, Program Assistance Division, Federal Housing Finance Board, 1777 F Street, N.W., Washington, D.C. 20006, or by electronic mail at FITZGERALDE@FHFB.GOV.

FOR FURTHER INFORMATION CONTACT: Emma J. Fitzgerald, Program Analyst, Office of Policy, Research and Analysis, Program Assistance Division, by telephone at 202/408-2874, by electronic mail at FITZGERALDE@FHFB.GOV, or by regular mail at the Federal Housing Finance Board, 1777 F Street, N.W., Washington, D.C. 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the March 2, 2001 deadline prescribed in this notice. 12 CFR 944.2(b)(1)(ii) and (c). On or before January 29, 2001, each Bank will notify the members in its district that have been selected for the 2000-01 fourth quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2000-01 fourth quarter community support review cycle:

Federal Home Loan Bank of Boston—District 1
Union Savings Bank | Danbury | Connecticut.
Jewett City Savings Bank | Jewett City | Connecticut.
First National Bank of Litchfield, IL | Litchfield | Connecticut.
Naugatuck Valley Savings & Loan Association | Naugatuck | Connecticut.
The New Haven Savings Bank | New Haven | Connecticut.
Newtown Savings Bank | Newtown | Connecticut.
Fairfield County Savings Bank | Norwalk | Connecticut.
Ridgefield Bank | Ridgefield | Connecticut.
First County Bank | Stamford | Connecticut.
Northeast Bank, F.S.B. | Auburn | Maine.
Bangor Savings Bank | Bangor | Maine.
Bar Harbor Savings and Loan Association | Bar Harbor | Maine.
First Citizens Bank | Presque Isle | Maine.
South Adams Savings Bank | Adams | Massachusetts.
Andover Bank | Andover | Massachusetts
Barre Savings Bank | Barre | Massachusetts.
Brookline Savings Bank | Brookline | Massachusetts.
Boston Federal Savings Bank | Burlington | Massachusetts.
Cambridgeport Bank | Cambridge | Massachusetts.
North Cambridge Co-operative Bank | Cambridge | Massachusetts.
Canton Co-operative Bank | Canton | Massachusetts.
The Edgartown National Bank | Edgartown | Massachusetts.
First Federal Savings Bank of America | Fall River | Massachusetts.
Fidelity Co-operative Bank | Fitchburg | Massachusetts.
Fitchburg Savings Bank, FSB | Fitchburg | Massachusetts.
Greenfield Co-operative Bank | Greenfield | Massachusetts.
Haverhill Co-operative Bank | Haverhill | Massachusetts.
Hyde Park Cooperative Bank | Hyde Park | Massachusetts.
Ipswich Co-operative Bank | Ipswich | Massachusetts.
Lowell Co-operative Bank | Lowell | Massachusetts.
Medford Bank | Medford | Massachusetts.
Milford National Bank and Trust Company | Milford | Massachusetts.
Natick Federal Savings Bank | Natick | Massachusetts.
Revere Federal Savings & Loan Association | Revere | Massachusetts.
Heritage Co-operative Bank | Salem | Massachusetts.
Salem Five Cents Savings Bank | Salem | Massachusetts.
People's Savings Bank of Brockton | South Easton | Massachusetts.
Stoneham Savings Bank | Stoneham | Massachusetts.
Country Bank for Savings | Ware | Massachusetts.
Wellesley Co-operative Bank | Wellesley | Massachusetts.
South Shore Cooperative Bank | Weymouth | Massachusetts.
Winchester Co-operative Bank | Winchester | Massachusetts.
Bay State Savings Bank | Worcester | Massachusetts.
Cape Cod Co-operative Bank | Yarmouth Port | Massachusetts.
The Berlin City Bank | Berlin | New Hampshire
Village Bank and Trust | Gilford | New Hampshire.
Granite Bank | Keene | New Hampshire.
Lancaster National Bank | Lancaster | New Hampshire.
Profile Bank | Rochester | New Hampshire.
Bank of Newport | Newport | Rhode Island.
Citizens Bank of Rhode Island | Providence | Rhode Island.
Westerly Savings Bank | Westerly | Rhode Island.
Brattleboro Savings and Loan Association, FA | Brattleboro | Vermont.
Lyndonville Savings Bank and Trust Company | Lyndonville | Vermont.
Federal Home Loan Bank of New York—District 2
Cape Savings Bank | Cape May Court House | New Jersey.
United Roosevelt Savings Bank | Carteret | New Jersey.
Commerce Bank, N.A. | Cherry Hill | New Jersey.
Unity Bank | Clinton | New Jersey.
First Constitution Bank | Cranbury | New Jersey.
Delanco Federal Savings Bank | Delanco | New Jersey.
Columbia Savings Bank | Fair Lawn | New Jersey.
Haven Savings Bank | Hoboken | New Jersey.
Manasquan Savings Bank | Manasquan | New Jersey.
Equity Bank | Marlton | New Jersey.
West Essex Bank | Pine Brook | New Jersey.
First Bank of Sea Isle City | Seaville | New Jersey.
Union Center National Bank | Union | New Jersey.
Wawel Savings Bank, SLA | Wallington | New Jersey.
Crest Savings Bank, SLA | Wildwood Crest | New Jersey.
Charter One Commercial | Albany | New York.
Bridgehampton National Bank | Bridgehampton | New York.
Atlas Savings and Loan Association | Brooklyn | New York.
Tompkins County Trust Company | Ithaca | New York.
Medina Savings & Loan Association | Medina | New York.
Isreal Discount Bank of New York | New York | New York.
NBT Bank, N.A. | Norwich | New York.
The Oneida Savings Bank | Oneida | New York.
Suffolk County National Bank of Riverhead | Riverhead | New York.
Adirondack Bank, N.A. | Saranac Lake | New York.
Sawyer Savings Bank | Saugerties | New York.
Bank of Smithtown | Smithtown | New York.
Walden Federal Savings and Loan Association | Walden | New York.
Fourth Federal Savings Bank | White Plains | New York.
City & Suburban Federal Savings Bank | Yonkers | New York.
Westernbank Puerto Rico | Mayaguez | Puerto Rico.
Banco Bilbao Vizcaya Puerto Rico | Santurce | Puerto Rico.
Federal Home Loan Bank of Pittsburgh—District 3
Christiana Bank and Trust Company | Greenville | Delaware.
The First National Bank of Wyoming | Wyoming | Delaware.
American Bank of the Lehigh Valley | Allentown | Pennsylvania.
Iron Workers Savings Bank | Aston | Pennsylvania.
Pennwood Savings Bank | Bellevue | Pennsylvania.
Brentwood Savings Bank | Bethel Park | Pennsylvania.
Madison Bank | Blue Bell | Pennsylvania.
National Penn Bank | Boyertown | Pennsylvania.
Union Building and Loan Savings Bank | Bridgewater | Pennsylvania.
Carnegie Savings Bank | Carnegie | Pennsylvania.
Suburban Community Bank | Chalfont | Pennsylvania.
Community Bank and Trust Company | Clarks Summit | Pennsylvania.
Clearfield Bank and Trust Company | Clearfield | Pennsylvania.
Vartan National Bank | Dauphin | Pennsylvania.
First Financial Bank | Downingtown | Pennsylvania.
First County Bank | Doylestown | Pennsylvania.
The Dime Bank | Honesdale | Pennsylvania.
Indiana First Savings Bank | Indiana | Pennsylvania.
Manor National Bank | Manor | Pennsylvania.
First National Bank of Marysville | Marysville | Pennsylvania.
Standard Bank PaSB | Monroeville | Pennsylvania.
Commonwealth Bank | Norristown | Pennsylvania.
Roxborough-Manayunk Bank | Philadelphia | Pennsylvania.
Mt. Troy Savings Bank, FSB | Pittsburgh | Pennsylvania.
PNC Bank, N.A. | Pittsburgh | Pennsylvania.
Pennsylvania Capital Bank | Pittsburgh | Pennsylvania.
Schuylkill Savings & Loan Association | Schuylkill Haven | Pennsylvania.
Somerset Trust Company | Somerset | Pennsylvania.
Omega Bank, N.A. | State College | Pennsylvania.
Mechanics Savings and Loan FSB | Steelton | Pennsylvania.
Compass Federal Savings Bank | Wilmerding | Pennsylvania.
Sovereign Bank, FSB | Wyomissing | Pennsylvania.
Capital State Bank, Inc. | Charleston | West Virginia.
Hancock County Savings Bank, F.S.B. | Chester | West Virginia.
Citizens National Bank of Elkins | Elkins | West Virginia.
Monongahela Valley Bank, Inc. | Fairmont | West Virginia.
Fayette County National Bank | Fayetteville | West Virginia.
Rock Branch Community Bank | Nitro | West Virginia.
The Bank of Romney | Romney | West Virginia.
Traders Bank | Spencer | West Virginia.
Progressive Bank | Wheeling | West Virginia.
Federal Home Loan Bank of Atlanta—District 4
First Federal Savings Bank | Bessemer | Alabama.
Citizens Federal Savings Bank | Birmingham | Alabama.
SouthTrust Bank, N.A. | Birmingham | Alabama.
First Federal Bank | Fort Payne | Alabama.
City Bank of Hartford | Hartford | Alabama.
Pinnacle Bank | Jasper | Alabama.
Farmers National Bank | Opelika | Alabama.
First Federal Bank, a fsb | Tuscaloosa | Alabama.
Amerifirst Bank N.A. | Union Springs | Alabama.
The Bank of Delmar, N.A. | Seaford | Delaware.
Independence Federal Savings Bank | Washington | D.C.
Community National Bank at Bartow | Bartow | Florida.
First Southern Bank | Boca Raton | Florida.
Crown Bank, a fsb | Casselberry | Florida.
Harbor Federal Savings Bank | Fort Pierce | Florida.
Homosassa Springs Bank | Homosassa Springs | Florida.
First Federal Savings Bank of Lake County | Leesburg | Florida.
City National Bank of Florida | Miami | Florida.
Interamerican Bank | Miami | Florida.
Intercredit Bank, N.A. | Miami | Florida.
Pacific National Bank | Miami | Florida.
Farmers and Merchants Bank | Monticello | Florida.
First National Bank of Naples | Naples | Florida.
Union Bank of Florida | Plantation | Florida.
First Community Bank of America | Port Charlotte | Florida.
First South Bank | Tallahassee | Florida.
Valrico State Bank | Valrico | Florida.
Fidelity Federal Savings Bank of Florida | West Palm Beach | Florida.
Bank of North Georgia. | Alpharetta | Georgia.
First Port City Bank | Bainbridge | Georgia.
Baxley Federal Savings Bank | Baxley | Georgia.
Peoples State Bank & Trust | Baxley | Georgia.
West Georgia National Bank | Carrollton | Georgia.
The Bank of Fitzgerald | Fitzgerald | Georgia.
Glennville Bank and Trust Company | Glennville | Georgia.
Commercial Banking Company | Hahira | Georgia.
First Flag Bank | LaGrange | Georgia.
Security Bank of Bibb County | Macon | Georgia.
Riverside Bank | Marietta | Georgia.
Quitman Federal Savings Bank | Quitman | Georgia.
Citizens Bank of Washington County | Sandersville | Georgia.
First National Bank of Effingham | Springfield | Georgia.
Eagle Bank and Trust | Statesboro | Georgia.
Bank of Worth | Sylvester | Georgia.
Thomas County FS&LA | Thomasville | Georgia.
Stephens Federal Bank | Toccoa | Georgia.
Mountain National Bank | Tucker | Georgia.
Darby Bank and Trust Company | Vidalia | Georgia.
Vidalia Federal Savings and Loan Association | Vidalia | Georgia.
Bank of Dooly | Vienna | Georgia.
The Peoples Bank of Willacoochee | Willacoohee | Georgia.
The Peoples Bank | Winder | Georgia.
Arundel Federal Savings Bank | Baltimore | Maryland.
Chesapeake Bank of Maryland | Baltimore | Maryland.
Fairmount Federal Savings Bank | Baltimore | Maryland.
Golden Prague FS&LA | Baltimore | Maryland.
Hopkins Federal Savings Bank | Baltimore | Maryland.
Madison Square Federal Savings Bank | Baltimore | Maryland.
Parkville Federal Savings Bank | Baltimore | Maryland.
Rosedale Federal Savings and Loan Association | Baltimore | Maryland.
Westview Savings Bank | Baltimore | Maryland.
The Washington Savings Bank, F.S.B. | Bowie | Maryland.
The Patapsco Bank | Dundalk | Maryland.
Farmers & Mechanics National Bank | Frederick | Maryland.
OBA Federal Savings and Loan Association | Gaithersburg | Maryland.
Columbian Bank, a F.S.B. | Havre de Grace | Maryland.
Suburban Federal Savings Bank | Landover Hills | Maryland.
Heritage Savings Bank | Lutherville | Maryland.
Senator Savings Bank, FSB | Towson | Maryland.
Community Bank of Tri-County | Waldorf | Maryland.
Woodsboro Bank | Woodsboro | Maryland.
Asheville Savings Bank | Asheville | North Carolina.
Community Savings Bank, SSB | Burlington | North Carolina.
First State Bank | Burlington | North Carolina.
Cherryville FS&LA | Cherryville | North Carolina.
First Federal Savings Bank | Dunn | North Carolina
Mutual Community Savings Bank, SSB | Durham | North Carolina
First Federal Savings and Loan Association | Lincolnton | North Carolina.
Progressive Savings and Loan Ltd. | Lumberton | North Carolina.
Mooresville Savings Bank, SSB | Mooresville | North Carolina.
Roxboro Savings Bank, SSB | Roxboro | North Carolina.
Citizens Savings Bank of Salisbury, SSB | Salisbury | North Carolina.
Home Savings, Inc., SSB | Thomasville | North Carolina.
FirstSouth Bank | Washington | North Carolina.
Abbeville Savings and Loan Association | Abbeville | South Carolina.
The Bank of Abbeville | Abbeville | South Carolina.
First FS&LA of Cheraw | Cheraw | South Carolina.
First Savers Bank | Greenville | South Carolina.
Citizens Building and Loan Association | Greer | South Carolina.
Mutual Savings Bank | Hartsville | South Carolina.
Atlantic Savings Bank, FSB | Hilton Head Island | South Carolina.
Pee Dee Federal Savings Bank | Marion | South Carolina.
Coastal Federal Savings Bank | Myrtle Beach | South Carolina.
Mid State Bank | Newberry | South Carolina.
Oconee Federal Savings and Loan Association | Seneca | South Carolina.
First Federal Bank | Spartanburg | South Carolina.
Community First Bank | Walhalla | South Carolina.
First Federal of South Carolina, F.S.B. | Walterboro | South Carolina.
Citizens Bank and Trust Company | Blackstone | Virginia.
Caroline Savings Bank | Bowling Green | Virginia.
Acacia Federal Savings Bank | Falls Church | Virginia.
First Virginia Bank | Falls Church | Virginia.
Virginia Savings Bank, FSB | Front Royal | Virginia.
First FS&LA | Martinsville | Virginia.
Chevy Chase Bank, FSB | McLean | Virginia.
Harbor Bank | Newport News | Virginia.
CENIT Bank | Norfolk | Virginia.
Essex Savings Bank, FSB | Norfolk | Virginia.
Bank of Tazewell County | Tazewell | Virginia.
Approved Federal Savings Bank | Virginia Beach | Virginia.
Federal Home Loan Bank of Cincinnati—District 5
Home FS&LA of Ashland | Ashland | Kentucky.
Bank of Buffalo | Buffalo | Kentucky.
The First National Bank of Columbia | Columbia | Kentucky.
Kentucky Federal Savings and Loan Association | Covington | Kentucky.
Greensburg Deposit Bank & Trust Company | Greensburg | Kentucky.
Citizens National Bank & Trust of Hazard | Hazard | Kentucky.
The Casey County Bank | Liberty | Kentucky.
Independence Bank | Livermore | Kentucky.
Commonwealth Bank and Trust | Louisville | Kentucky.
Home Savings Bank, fsb | Ludlow | Kentucky.
Madisonville Building and Loan Association | Madisonville | Kentucky.
Bank of Maysville | Maysville | Kentucky.
Hart County Bank and Trust Company | Munfordville | Kentucky.
The Farmers Bank | Nicholasville | Kentucky.
Community Trust Bank, N.A. | Pikeville | Kentucky.
Cumberland Security Bank | Somerset | Kentucky.
Commercial Bank | West Liberty | Kentucky.
Antwerp Exchange Bank Company | Antwerp | Ohio.
Hocking Valley Bank | Athens | Ohio.
Citizens Federal Savings and Loan Association | Bellefontaine | Ohio.
The Guernsey Bank, FSB | Cambridge | Ohio.
Castalia Banking Company | Castalia | Ohio.
Mercer Savings Bank | Celina | Ohio.
Cheviot Building and Loan Company | Cheviot | Ohio.
Bramble Federal Savings & Loan | Cincinnati | Ohio.
Cincinnati Federal Savings & Loan Association | Cincinnati | Ohio.
North Side Bank and Trust Company | Cincinnati | Ohio.
National City Bank | Cleveland | Ohio.
Ohio Savings Bank | Cleveland | Ohio.
The Home Loan Savings Bank | Coshocton | Ohio.
The Covington Savings and Loan Association | Covington | Ohio.
The Delaware County Bank and Trust Company | Delaware | Ohio.
The Northern Savings and Loan Company | Elyria | Ohio.
The Genoa Savings and Loan Company | Genoa | Ohio.
Indian Village FS&LA | Gnadenhutten | Ohio.
The Hicksville Bank | Hicksville | Ohio.
Home Builders Association | Lynchburg | Ohio.
The Citizens Savings Bank | Martins Ferry | Ohio.
People's Building, Loan and Savings Company | Mason | Ohio.
Peoples FS&LA of Massillon | Massillon | Ohio.
Clermont Savings Bank, FSB | Milford | Ohio.
The Commercial & Savings Bank of Millersburg | Millersburg | Ohio.
The First National Bank of Nelsonville | Nelsonville | Ohio.
Peoples National Bank | New Lexington | Ohio.
Geauga Savings Bank | Newbury | Ohio.
The First National Bank of Pandora | Pandora | Ohio.
Century Bank, F.S.B. | Parma | Ohio.
Farmers Bank and Savings Company | Pomeroy | Ohio.
Capital Bank, N.A. | Sylvania | Ohio.
The Commercial Savings Bank | Upper Sandusky | Ohio.
Versailles Savings and Loan Company | Versailles | Ohio.
The Wayne Savings Community Bank | Wooster | Ohio.
Commerce National Bank | Worthington | Ohio.
The Home Savings and Loan Company | Youngstown | Ohio.
Century National Bank | Zanesville | Ohio.
Athens Federal Community Bank | Athens | Tennessee.
First National Bank and Trust Company | Athens | Tennessee.
Bells Banking Company | Bells | Tennessee.
Benton Banking Company | Benton | Tennessee.
People's Bank and Trust Company of Picket Co | Byrdstown | Tennessee.
Rhea County National Bank | Dayton | Tennessee.
Greenfield Banking Company | Greenfield | Tennessee.
First Peoples Bank of Tennessee | Jefferson City | Tennessee.
Lawrenceburg FS&LA | Lawrenceburg | Tennessee.
Community National Bank | Lexington | Tennessee.
Union Bank and Trust Company | Livingston | Tennessee.
BankTennessee | Memphis | Tennessee.
EFS National Bank | Memphis | Tennessee.
The Community Bank | Nashville | Tennessee.
First Trust and Savings Bank | Oneida | Tennessee.
Citizens Bank and Trust Company | Rutledge | Tennessee.
Bank of Waynesboro | Waynesboro | Tennessee.
Federal Home Loan Bank of Indianapolis—District 6
Peoples Trust Bank | Corydon | Indiana.
Heritage Bank and Trust Company | Darlington | Indiana.
Elberfield State Bank | Elberfield | Indiana.
Mutual Savings Bank | Franklin | Indiana.
Calumet National | Hammond | Indiana.
First FS&LA of Hammond | Hammond | Indiana.
Citizens First State Bank | Hartford City | Indiana.
First Indiana Bank, a FSB | Indianapolis | Indiana.
Farmers State Bank | LaGrange | Indiana.
Linden State Bank | Linden | Indiana.
MFB Financial | Mishawaka | Indiana.
St. Joseph Capital Bank | Mishawawka | Indiana.
West End Savings Bank | Richmond | Indiana.
Scott County State Bank | Scottsburg | Indiana.
Macomb Community | Clinton Township | Michigan.
Michigan State University FCU | East Lansing | Michigan.
MetroBank | Farmington Hills | Michigan.
Citizens Bank | Flint | Michigan.
Grand Haven Bank | Grand Haven | Michigan.
Old Kent Bank | Grand Rapids | Michigan.
D&N Bank, FSB | Hancock | Michigan.
Mainstreet Savings Bank, FSB | Hastings | Michigan.
The Bank of Holland | Holland | Michigan.
The Honor State Bank | Honor | Michigan.
Ionia County National Bank | Ionia | Michigan.
First National Bank of Iron Mountain | Iron Mountain | Michigan.
Mayville State Bank | Mayville | Michigan.
Wolverine Bank, F.S.B. | Midland | Michigan.
Central Savings Bank | Sault Ste. Marie | Michigan.
Sturgis Bank and Trust Company | Sturgis | Michigan.
First Savings Bank | Three Rivers | Michigan.
Standard Federal Bank, a FSB | Troy | Michigan.
Charter Bank | Wyandotte | Michigan.
Federal Home Loan Bank of Chicago—District 7
Citizens National Bank of Albion | Albion | Illinois.
Farmers State Bank of Western Illinois | Alpha | Illinois.
Apple River State Bank | Apple River | Illinois.
Arcola Homestead Savings Bank | Arcola | Illinois.
The First National Bank of Arcola | Arcola | Illinois.
The First National Bank of Arenzville | Arenzville | Illinois.
Ben Franklin Bank of Illinois | Arlington Heights | Illinois.
The Atlanta National Bank | Atlanta | Illinois.
First State Bank | Atwood | Illinois.
Scott State Bank | Bethany | Illinois.
First State Bank of Bloomington | Bloomington | Illinois.
Midland Federal Savings and Loan Association | Bridgeview | Illinois.
Farmers and Merchants State Bank of Bushnell | Bushnell | Illinois.
Byron Bank | Byron | Illinois.
First State Bank of Campbell Hill | Campbell Hill | Illinois.
Carrollton Bank | Carrollton | Illinois.
BankIllinois | Champaign | Illinois.
Bank of Chestnut | Chestnut | Illinois.
Chesterfield Federal S&LA of Chicago | Chicago | Illinois.
Hoyne Savings Bank | Chicago | Illinois.
Loomis Federal Savings and Loan Association | Chicago | Illinois.
North Side FS&LA of Chicago | Chicago | Illinois.
Royal Savings Bank | Chicago | Illinois.
Seaway National Bank of Chicago | Chicago | Illinois.
Second Federal Savings and Loan | Chicago | Illinois.
Central Federal Savings and Loan Association | Cicero | Illinois.
MidAmerica Bank, fsb | Clarendon Hills | Illinois.
Central State Bank | Clayton | Illinois.
DeWitt Savings Bank | Clinton | Illinois.
First Federal Bank, F.S.B. | Colchester | Illinois.
First United Bank | Crete | Illinois.
Soy Capital Bank and Trust Company | Decatur | Illinois.
Castle Bank, National Association | DeKalb | Illinois.
Union Bank of Illinois | East St. Louis | Illinois.
Galena State Bank and Trust Company | Galena | Illinois.
Community State Bank | Galva | Illinois.
Howard Savings Bank | Glenview | Illinois.
Security State Bank of Hamilton | Hamilton | Illinois.
Harvard Savings Bank | Harvard | Illinois.
First National Bank of La Grange | La Grange | Illinois.
Exchange State Bank | Lanark | Illinois.
The Lemont National Bank | Lemont | Illinois.
Lisle Savings Bank | Lisle | Illinois.
Bank and Trust Company | Litchfield | Illinois.
Union Bank/West | Macomb | Illinois.
Continental Community Bank & Trust Company | Maywood | Illinois.
A.J. Smith Federal Savings Bank | Midlothian | Illinois.
Southeast National Bank | Moline | Illinois.
Security Savings Bank | Monmouth | Illinois.
Farmers State Bank Chadwick and Mt. Carroll | Mt. Carroll | Illinois.
The First National Bank | Mulberry Grove | Illinois.
Hawthorn Bank | Mundelein | Illinois.
Warren-Boynton State Bank | New Berlin | Illinois.
Ottawa Savings Bank | Ottawa | Illinois.
State Bank of Paw Paw | Paw Paw | Illinois.
First Capital Bank | Peoria | Illinois.
The Heights Bank | Peoria Heights | Illinois.
Pleasant Plains State Bank | Pleasant Plains | Illinois.
Town and Country Bank of Quincy | Quincy | Illinois.
Rantoul First Bank, s.b. | Rantoul | Illinois.
First National Bank of Raymond | Raymond | Illinois.
First Ridge Farm State Bank | Ridge Farm | Illinois.
Community State Bank of Rock Falls | Rock Falls | Illinois.
Rushville State Bank | Rushville | Illinois.
AmericaUnited Bank & Trust Company USA | Schaumburg | Illinois.
Illini Bank | Springfield | Illinois.
Tuscola National Bank | Tuscola | Illinois.
Bank of Warrensburg | Warrensburg | Illinois.
State Bank Winslow-Warren | Winslow | Illinois.
The Portage County Bank | Almond | Wisconsin.
Pioneer Bank | Auburndale | Wisconsin.
First National Bank of Baldwin | Baldwin | Wisconsin.
The First National Bank and Trust Co. of Baraboo | Baraboo | Wisconsin.
Black River Country Bank | Black River Falls | Wisconsin.
Bonduel State Bank | Bonduel | Wisconsin.
Red Cedar Bank, N.A. | Boyceville | Wisconsin.
Dairyman's State Bank | Clintonville | Wisconsin.
Farmers and Merchants Union Bank | Columbus | Wisconsin.
Cumberland Federal Bank, FSB | Cumberland | Wisconsin.
Community Bank of Grafton | Grafton | Wisconsin.
Highland State Bank | Highland | Wisconsin.
Park Bank | Holmen | Wisconsin.
Security State Bank | Iron River | Wisconsin.
East Wisconsin Savings Bank, S.A. | Kaukauna | Wisconsin.
Greenwood's State Bank | Lake Mills | Wisconsin.
First Bank and Trust | Menomonie | Wisconsin.
Bank of Milton | Milton | Wisconsin.
Milwaukee Western Bank | Milwaukee | Wisconsin.
St. Francis Bank, F.S.B. | Milwaukee | Wisconsin.
Universal Savings Bank, F.A. | Milwaukee | Wisconsin.
Associated Bank, N.A. | Neenah | Wisconsin.
Clare Bank, N.A. | Platteville | Wisconsin.
First National Platteville | Platteville | Wisconsin.
Mound City Bank | Platteville | Wisconsin.
Intercity State Bank | Schofield | Wisconsin.
Community Bank & Trust | Sheboygan | Wisconsin.
Bank of Sun Prairie | Sun Prairie | Wisconsin.
First Federal Savings Bank of Wisconsin | Waukesha | Wisconsin.
KeySavings Bank | Wisconsin Rapids | Wisconsin.
River Cities Bank | Wisconsin Rapids | Wisconsin.
Wood County National Bank | Wisconsin Rapids | Wisconsin.
Federal Home Loan Bank of Des Moines—District 8
Iowa Savings Bank | Carroll | Iowa.
Central Trust and Savings Bank | Cherokee | Iowa.
Linn County State Bank | Coggon | Iowa.
Farmers Savings Bank | Colesburg | Iowa.
Citizens Bank | Corydon | Iowa.
Fortress Bank of Cresco | Cresco | Iowa.
Valley State Bank | Eldridge | Iowa.
First National Bank in Fairfield | Fairfield | Iowa.
Farmers State Bank | Jesup | Iowa.
First State Bank of Mapleton | Mapleton | Iowa.
Farmers Savings Bank | Mt. Pleasant | Iowa.
New Vienna Savings Bank | New Vienna | Iowa.
First State Bank | Nora Springs | Iowa.
American State Bank | Osceola | Iowa.
Perry State Bank | Perry | Iowa.
Readlyn Savings Bank | Readlyn | Iowa.
Community Savings Bank | Robins | Iowa.
Premier Bank | Rock Valley | Iowa.
Iowa State Bank | Sac City | Iowa.
Sanborn Savings Bank | Sanborn | Iowa.
The State Bank | Spirit Lake | Iowa.
Union Bank and Trust Company | Strawberry Point | Iowa.
The State Bank of Toledo | Toledo | Iowa.
Farmers Savings Bank | Walford | Iowa.
Iowa State Bank | Wapello | Iowa.
Washington Federal Savings Bank | Washington | Iowa.
State Bank of Waverly | Waverly | Iowa.
First State Bank | Webster City | Iowa.
Union State Bank | Winterset | Iowa.
First State Bank of Bayport | Bayport | Minnesota.
CreditAmerica Savings Company | Brainerd | Minnesota.
The First National Bank of Coleraine | Coleraine | Minnesota.
Western National Bank | Duluth | Minnesota.
Fidelity Bank | Edina | Minnesota.
State Bank of Fairmont | Fairmont | Minnesota.
Citizens State Bank of Gaylord | Gaylord | Minnesota.
Commerce Bank | Geneva | Minnesota.
The First National Bank of Gilbert | Gilbert | Minnesota.
Yellow Medicine County Bank | Granite Falls | Minnesota.
Northwestern State Bank of Hallock | Hallock | Minnesota.
1st American State Bank of Minnesota | Hancock | Minnesota.
First Southeast Bank | Harmony | Minnesota.
First Federal fsb | Hutchinson | Minnesota.
United Prairie Bank—Jackson | Jackson | Minnesota.
Cornerstone State Bank | La Sueur | Minnesota.
First Community Bank Lester Prairie | Lester Prairie | Minnesota.
The State Bank of Loretto | Loretto | Minnesota.
First National Bank of Luverne | Luverne | Minnesota.
US Bank, N.A. | Minneapolis | Minnesota.
First National Bank of Montgomery | Montgomery | Minnesota.
United Farmers & Merchants State Bank | Morris | Minnesota.
Northland Community Bank | Northome | Minnesota.
Citizens State Bank of Norwood | Norwood Young America | Minnesota.
Odin State Bank | Odin | Minnesota.
Prinsburg State Bank | Prinsburg | Minnesota.
Randall State Bank | Randall | Minnesota.
Woodland Bank | Remer | Minnesota.
Richfield Bank and Trust Company | Richfield | Minnesota.
First Community Bank | Savage | Minnesota.
Home Federal Savings Bank | Spring Valley | Minnesota.
St. Anthony Park State Bank | St. Paul | Minnesota.
Heartland State Bank | Storden | Minnesota.
The Northwestern State Bank of Ulen | Ulen | Minnesota.
Wells Federal Bank, a FSB | Wells | Minnesota.
First State Bank of Pipestone, Rushmore | Worthington | Minnesota.
Worthington Federal Savings Bank, f.s.b. | Worthington | Minnesota.
First Missouri National Bank | Brookfield | Missouri.
BC National Banks | Butler | Missouri.
Carroll County Trust Company | Carrollton | Missouri.
Chillicothe State Bank | Chillicothe | Missouri.
Investors Federal Bank | Chillicothe | Missouri.
Boone National Savings & Loan Association, FA | Columbia | Missouri.
First State Community Bank | Farmington | Missouri.
Ozarks Federal Savings and Loan Association | Farmington | Missouri.
Bank Northwest | Hamilton | Missouri.
Town & Country Bank | Hardin | Missouri.
Allen Bank and Trust Company | Harrisonville | Missouri.
Bank of Hayti | Hayti | Missouri.
First National Bank | Houston | Missouri.
Kennett National Bank | Kennett | Missouri.
Bank of Kimberling City | Kimberling City | Missouri.
First National Bank | Lamar | Missouri.
Lamar Bank and Trust Company | Lamar | Missouri.
Central Bank | Lebanon | Missouri.
Linn State Bank | Linn | Missouri.
First National Bank | Malden | Missouri.
Pioneer Bank and Trust Company | Maplewood | Missouri.
Wood & Huston Bank | Marshall | Missouri.
First National Bank of Audrain County | Mexico | Missouri.
Peoples Bank of the Ozarks | Nixa | Missouri.
First Midwest Bank of Piedmont | Piedmont | Missouri.
Peoples Savings Bank of Rhineland | Rhineland | Missouri.
Hardin Federal Savings Bank | Richmond | Missouri.
The State Bank | Richmond | Missouri.
Farmers State Bank of Schell City | Schell City | Missouri.
Citizens National Bank of Springfield | Springfield | Missouri.
Bank of Thayer | Thayer | Missouri.
Quarry City Savings and Loan Association | Warrensburg | Missouri.
Citizens State Bank of Pembina County | Cavalier | North Dakota.
Wells Fargo Bank of North Dakota, N.A. | Fargo | North Dakota.
First State Bank Langdon | Langdon | North Dakota.
BankFirst, N.A. | Sioux Falls | South Dakota.
Home Federal Savings Bank | Sioux Falls | South Dakota.
F&M Bank | Watertown | South Dakota.
Federal Home Loan Bank of Dallas—District 9
First Financial Bank, fsb | El Dorado | Arkansas.
Fordyce Bank and Trust Company | Fordyce | Arkansas.
Forrest City Bank, NA | Forrest City | Arkansas.
Bank of Lockesburg | Lockesburg | Arkansas.
Southeast Arkansas Bank | Parkdale | Arkansas.
Pine Bluff National Bank | Pine Bluff | Arkansas.
Arvest Bank | Rogers | Arkansas.
First Arvest Bank | Siloam Springs | Arkansas.
Bank of Coushatta | Coushatta | Louisiana.
St. Tammany Homestead S&LA | Covington | Louisiana.
Teche Federal Savings Bank | Franklin | Louisiana.
Florida Parishes Bank | Hammond | Louisiana.
LBA Savings Bank | Lafayette | Louisiana.
Guaranty Savings and Homestead Association | Metairie | Louisiana.
Mutual Savings and Loan Association | Metairie | Louisiana.
Horizons Bank | Monroe | Louisiana.
Eureka Homestead Society | New Orleans | Louisiana.
Hibernia Homestead and Savings Association | New Orleans | Louisiana.
Peoples Bank & Trust Company of Pointe Coupee | New Roads | Louisiana.
Ponchatoula Homestead Association, F.A. | Ponchatoula | Louisiana.
Bank of West Baton Rouge | Port Allen | Louisiana.
Ruston Building and Loan Association | Ruston | Louisiana.
First National Bank of Springdale | Springdale | Louisiana.
Bank of St. Francisville | St. Francisville | Louisiana.
American Bank | Welsh | Louisiana.
The Bank of Commerce | White Castle | Louisiana.
Amory Federal Savings & Loan Association | Amory | Mississippi.
Delta Bank and Trust | Drew | Mississippi.
Britton & Koontz First National Bank | Natchez | Mississippi.
Mechanics Bank | Water Valley | Mississippi.
International Bank | Raton | New Mexico.
Tucumcari Federal Savings & Loan Association | Tucumcari | New Mexico.
First National Bank of Athens | Athens | Texas.
First National Bank of Bridgeport | Bridgeport | Texas.
Citizens State Bank | Cross Plains | Texas.
Cuero State Bank, s.s.b. | Cuero | Texas.
Beal Bank, SSB | Dallas | Texas.
Mercantile Bank & Trust, FSB | Dallas | Texas.
Provident Bank | Dallas | Texas.
First National Bank of Texas | Decatur | Texas.
First United Bank | Dimmitt | Texas.
Union State Bank | Florence | Texas.
Omni American Federal Credit Union | Fort Worth | Texas.
Summit Community Bank N.A. | Fort Worth | Texas.
Security Bank, N.A.—Garland | Garland | Texas.
Hebbronville State Bank | Hebbronville | Texas.
Prime Bank | Houston | Texas.
Central Bank of Houston | Houston | Texas.
MetroBank, N.A. | Houston | Texas.
Texas Guaranty Bank, N.A. | Houston | Texas.
Texas State Bank | Joaquin | Texas.
First Nichols National Bank | Kenedy | Texas.
First National Bank of Lake Jackson | Lake Jackson | Texas.
Commerce Bank | Laredo | Texas.
First Federal Savings and Loan Association | Littlefield | Texas.
First National Bank of Livingston | Livingston | Texas.
Plains National Bank of West Texas | Lubbock | Texas.
Mason National Bank | Mason | Texas.
Inter National Bank | McAllen | Texas.
Mineola Community Bank, SSB | Mineola | Texas.
City National Bank | Mineral Wells | Texas.
Commercial Bank of Texas, N.A. | Nacogdoches | Texas.
Western National Bank | Odessa | Texas.
Orange Savings Bank, ssb | Orange | Texas.
Gulf Coast Educators Federal Credit Union | Pasadena | Texas.
Lone Star National Bank | Pharr | Texas.
Fort Bend Federal Savings & Loan Association | Rosenberg | Texas.
Community Bank of Central Texas | Smithville | Texas.
Town and Country Bank | Stephenville | Texas.
Heritage Savings Bank, SSB | Terrell | Texas.
First National Bank | Trinity | Texas.
First National Bank of Bosque County | Valley Mills | Texas.
FirstCapital Bank, ssb | Victoria | Texas.
Fannin Bank | Windom | Texas.
Federal Home Loan Bank of Topeka—District 10
Commerce Bank | Aurora | Colorado.
Premier Members Federal Credit Union | Boulder | Colorado.
Del Norte Federal Savings & Loan Association | Del Norte | Colorado.
Premier Bank | Denver | Colorado.
TCF National Bank Colorado | Englewood | Colorado.
FirstBank of Evergreen | Evergreen | Colorado.
Bank of Grand Junction | Grand Junction | Colorado.
FirstBank of Greeley | Greeley | Colorado.
First National Bank of Julesberg | Julesberg | Colorado.
The State Bank—La Junta | La Junta | Colorado.
First National Bank of Lake City and Creede | Lake City | Colorado.
FirstBank of Parker | Parker | Colorado.
Rocky Ford National Bank | Rocky Ford | Colorado.
First National Bank of Stratton | Stratton | Colorado.
Bank of Commerce | Chanute | Kansas.
Home Savings Bank | Chanute | Kansas.
Legacy Bank | Colwich | Kansas.
State Bank of Conway Springs | Conway Springs | Kansas.
Landmark Federal Savings Bank | Dodge City | Kansas.
Citizens State Bank and Trust Company | Ellsworth | Kansas.
State Bank of Fredonia | Fredonia | Kansas.
Gardner National Bank | Gardner | Kansas.
Farmers State Bank | Oakley | Kansas.
First Kansas Federal Savings Bank | Osawatomie | Kansas.
First Bank | Sterling | Kansas.
Chisholm Trail State Bank | Wichita | Kansas.
The State Bank | Winfield | Kansas.
Bank of Bennington | Bennington | Nebraska.
Washington County Bank | Blair | Nebraska.
Custer Federal Savings and Loan Association | Broken Bow | Nebraska.
Citizens State Bank | Carleton | Nebraska.
CerescoBank | Ceresco | Nebraska.
First Bank and Trust | Cozad | Nebraska.
First State Bank | Enders | Nebraska.
First National Bank in Exeter | Exeter | Nebraska.
Farnam Bank | Farnam | Nebraska.
American National Bank of Fremont | Fremont | Nebraska.
First State Bank | Fremont | Nebraska.
Henderson State Bank | Henderson | Nebraska.
Kearney State Bank and Trust Company | Kearney | Nebraska.
Firstate Bank | Kimball | Nebraska.
Farmers and Merchants Bank | Milligan | Nebraska.
Centennial Bank | Omaha | Nebraska.
Citizens Bank of Ada | Ada | Oklahoma.
First National Bank | Broken Arrow | Oklahoma.
Bank of Chelsea | Chelsea | Oklahoma
1st Bank Oklahoma | Claremore | Oklahoma.
American Bank and Trust | Edmond | Oklahoma.
InterBank, N.A. | Elk City | Oklahoma.
Liberty Federal Savings Bank | Enid | Oklahoma.
Fairview Savings and Loan Association | Fairview | Oklahoma.
First Southwest Bank | Frederick | Oklahoma.
Stockmans Bank | Gould | Oklahoma.
City National Bank and Trust Company | Guymon | Oklahoma.
The Bank of Kremlin | Kremlin | Oklahoma.
Bank of Elgin | Lawton | Oklahoma.
Morris State Bank | Morris | Oklahoma.
Arvest Bank | Norman | Oklahoma.
Osage Federal Savings & Loan Association | Pawhuska | Oklahoma.
NBC Bank | Pawhuska | Oklahoma.
First Priority Bank | Pryor | Oklahoma.
Peoples Bank and Trust | Ryan | Oklahoma.
Spencer State Bank | Spencer | Oklahoma.
Bank of Commerce | Stillwell | Oklahoma.
Sooner State Bank | Tuttle | Oklahoma.
First State Bank | Valliant | Oklahoma.
Citizens' Bank | Velma | Oklahoma.
First State Bank | Watonga | Oklahoma.
Peoples Bank | Westville | Oklahoma.
Federal Home Loan Bank of San Francisco—District 11
Placer Sierra Bank | Auburn | California.
Western Security Bank, N.A. | Burbank | California.
Mt. Diablo National Bank | Danville | California.
Hawthorne Savings, F.S.B. | El Segundo | California.
Murphy Bank | Fresno | California.
Eldorado Bank | Irvine | California.
Downey Savings & Loan Association | Newport Beach | California.
Universal Bank | Orange | California.
Rancho Santa Fe National Bank | Rancho Santa Fe | California.
Feather River State Bank | Redding | California.
Provident Savings Bank, FSB | Riverside | California.
First Bank of California | Roseville | California.
First Federal Credit Union | Sacramento | California.
River City Bank | Sacramento | California.
Pan American Bank, FSB | San Mateo | California.
Tamalpais Bank | San Rafael | California.
Los Padres Savings Bank, FSB | Solvang | California.
Sonoma Valley Bank | Sonoma | California.
First Security Bank of California, NA | West Covina | California.
Quaker City Bank | Whittier | California.
Federal Home Loan Bank of Seattle—District 12
Citizens Security Bank (Guam), Inc. | Agana | Guam.
FirstBank Northwest | Lewiston | Idaho.
First Security Bank Missoula | Kalispell | Montana.
First National Bank of Lewiston | Lewiston | Montana.
Empire Bank | Livingston | Montana.
Ronan State Bank | Ronan | Montana.
Linn-Benton Bank | Albany | Oregon.
Pioneer Bank, F.S.B. | Baker City | Oregon.
Evergreen FS&LA | Grants Pass | Oregon.
Bank of Eastern Oregon | Heppner | Oregon.
Banner Bank of Oregon | Hermiston | Oregon.
Klamath First Federal Savings and Loan | Klamath Falls | Oregon.
Orchard Bank | Ontario | Oregon.
American Marine Bank | Bainbridge Island | Washington.
The Bank of Edmonds | Lynnwood | Washington.
Whidbey Island Bank | Oak Harbor | Washington.
Olympia Federal Savings & Loan Association | Olympia | Washington.
Heritage Savings Bank | Olympia | Washington.
First Federal Savings and Loan Association | Port Angeles | Washington.
Riverview Community Bank | Riverview | Washington.
Asia-Europe-Americas Bank | Seattle | Washington.
Key Bank N.A. | Seattle | Washington.
Washington Mutual Bank | Seattle | Washington.
Washington Mutual Bank fsb | Seattle | Washington.
Farmers and Merchants Bank of Rockford | Spokane | Washington.
Yakima Federal Savings and Loan Association | Yakima | Washington.
American National Bank of Rock Springs | Rock Springs | Wyoming.
Rock Springs National Bank | Rock Springs | Wyoming.
Tri-County Federal Savings Bank | Torrington | Wyoming.

II. Public Comments

To encourage the submission of public comments on the community support performance of Bank members, on or before January 29, 2001, each Bank will notify its Advisory Council and nonprofit housing developers, community groups, and other interested parties in its district of the members selected for community support review in the 2000-01 fourth quarter review cycle. 12 CFR 944.2(b)(2)(ii). In reviewing a member for community support compliance, the Finance Board will consider any public comments it has received concerning the member. 12 CFR 944.2(d). To ensure consideration by the Finance Board, comments concerning the community support performance of members selected for the 2000-01 fourth quarter review cycle must be delivered to the Finance Board on or before the March 2, 2001 deadline for submission of Community Support Statements.

By the Federal Housing Finance Board.
James L. Bothwell,
Managing Director.

[FR Doc. 01-382 Filed 1-12-01; 8:45 am]

BILLING CODE 6725-01-P